ENVIRONMENTAL PROTECTION AGENCY

[EPA-HQ-OECA-2014-0026; FRL-9922-96-OEI]

Information Collection Request Submitted to OMB for Review and Approval; Comment Request; NSPS for Metal Coil Surface Coating (Renewal)

AGENCY: Environmental Protection Agency (EPA).

ACTION: Notice.

SUMMARY: The Environmental Protection Agency has submitted an information collection request (ICR), “NSPS for Metal Coil Surface Coating (40 CFR part 60, subpart TT) (Renewal)” (EPA ICR No. 0660.12, OMB Control No. 2060-0107) to the Office of Management and Budget (OMB) for review and approval in accordance with the Paperwork Reduction Act (44 U.S.C. 3501 et seq.). This is a proposed extension of the ICR, which is currently approved through February 28, 2015. Public comments were previously requested via the Federal Register (79 FR 30117) on May 27, 2014, during a 60-day comment period. This notice allows for an additional 30 days for public comments. A fuller description of the ICR is given below, including its estimated burden and cost to the public. An Agency may not conduct or sponsor and a person is not required to respond to a collection of information unless it displays a currently valid OMB control number.

DATES: Additional comments may be submitted on or before March 27, 2015.

ADDRESSES: Submit your comments, referencing Docket ID Number EPA-HQ-OECA-2014-0026, to (1) EPA online using www.regulations.gov (our preferred method), by email to docket.oeca@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Patrick Yellin, Monitoring, Assistance, and Media Programs Division, Office of Compliance, Mail Code 2227A, Environmental Protection Agency, 1200 Pennsylvania Ave. NW., Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov or in person at the EPA Docket Center, EPA William Jefferson Clinton West, Room 3334, 1301 Constitution Ave. NW., Washington, DC. The telephone number for the Docket Center is 202-566-1744. For additional information about EPA's public docket, visit http://www.epa.gov/dockets.

Abstract: The New Source Performance Standards (NSPS) for Metal Coil Surface Coating (40 CFR part 60, subpart TT) were: Proposed on January 5, 1981; promulgated on November 1, 1982; and amended on June 24, 1986 and October 17, 2000. These regulations apply to the following surface coating lines in the metal coil surface coating industry: Each prime coat operation; each finish coat operation; and each prime and finish coat operation cured simultaneously, where the finish coat is applied wet-on-wet over the prime coat. These regulations apply to facilities commencing construction, modification, or reconstruction after the date of proposal. This information is being collected to assure compliance with 40 CFR part 60, subpart TT.

In general, all NSPS standards require initial notification reports, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NSPS.

Any owner/operator subject to the provisions of this part shall maintain a file of these measurements, and retain the file for at least two years following the date of such measurements, maintenance reports, and records. All reports are sent to the delegated state or local authority. In the event that there is no such delegated authority, the reports are sent directly to the U.S. Environmental Protection Agency (EPA) regional office.

Form Numbers: None.

Respondents/affected entities: Owners and operators of primary copper smelter.

Respondent's obligation to respond: Mandatory (40 CFR part 60, subpart TT).

Estimated number of respondents: 158 (total).

Frequency of response: Initially, occasionally, quarterly, and semiannually.

Total estimated burden: 15,643 hours (per year). Burden is defined at 5 CFR 1320.3(b).

Total estimated cost: $1,863,362 (per year), includes $331,800 annualized capital or operation & maintenance costs.

Changes in the Estimates: There is no change in the total estimated respondent burden compared with the ICR currently approved by OMB.

Courtney Kerwin,
Acting Director, Collection Strategies Division.

[FR Doc. 2015-03865 Filed 2-24-15; 8:45 am]

BILLING CODE 6560-50-P